DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2009, there were three applications approved. This notice also includes information on one application, approved in December 2008, inadvertently left off the December 2008 notice. Additionally, 16 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Gallatin Airport Authority, Belgrade, Montana.

Application Number: 09-04-C-00-BZN.

Application Type: Impose and use a PFC.

PFC Level: $4.50.

TOTAL PFC Revenue Approved in This Decision: $2,200,000.

Earliest Charge Effective Date: February 1, 2010.

Estimated Charge Expiration Date: February 1, 2012.

Class of Air Carriers not Required to Collect PFC'S: Air taxi/commercial operators filing FAA Form 1800-31.

Determination: Approved. Based on information submitted in the public agency's application, the FAA has determined that the approved class accounts for less than 1 percent of the total annual enplanements at Gallatin Field.

Brief Description of Projects Approved for Collection and Use:

Terminal expansion, preliminary design.

Purchase express ramp loading bridge.

Decision Date: December 30, 2008.

FOR FURTHER INFORMATION CONTACT: Dave Stelling, Helena Airports District Office, (406) 449-5257.

Public Agency: Indian Wells Valley Airport District, Inyokern, California.

Application Number: 09-06-C-00-IYK.

Application Type: Impose And Use A PFC.

PFC Level: $4.50.

Total PFC Revenue Approved in This Decision: $502,105.

Earliest Charge Effective Date: March 1, 2009.

Estimated Charge Expiration Date: March 1, 2019.

Class of Air Carriers not Required to Collect PFC's: None.

Brief Description of Projects Approved for Collection and Use:

PFC application costs.

Terminal building improvements.

Airfield electrical improvements.

Power sweeper truck.

Brief Description of Projects Approved for Collection:

Runway 2/20, taxiway, apron, and access road rehabilitation.

Runway 2/20 reconstruction.

Taxiway Al construction.

Runway 15/33 reconstruction.

Decision Date: January 16, 2009.

FOR FURTHER INFORMATION CONTACT: Darlene Williams, Los Angeles Airports District Office, (310) 725-3625.

Public Agency: City Of Chicago, Illinois.

Applications Number: 07-12-C-00-Mdw.

Application Type: Impose And Use A Pfc.

PFC Level: $4.50.

Total PFC Revenue Approved In This Decision: $501,933,168.

Earliest Charge Effective Date: September 1, 2038.

Estimated Charge Expiration Date: November 1, 2053.

Class of Air Carriers not Required to Collect PFC's: Air Taxi.

Determination: Approved. Based on information submitted in the public agency's application, the FAA has determined that the approved class accounts for less than 1 percent of the total annual enplanements at Chicago Midway International Airport.

Brief Description of Partially Projects Approved for Collection and Use at a $4.50 PFC Level: Residential soundproofing (2005-2011).

Determination: The public agency did not provide sufficient documentation to justify the level of financing and interest costs requested. Therefore, the FAA reduced the requested financing costs.

North security hall expansion.

Determination: The public agency did not provide sufficient documentation to justify the level of financing and interest costs requested. Therefore, the FAA reduced the requested financing costs.

Cyclical airfield rehabilitation.

Determination: The public agency requested that this project be solely funded with PFC revenue. However, after the application had been submitted, the public agency received two Airport Improvement Program (AlP) grants providing partially funding for two project components. Therefore, the FAA reduced the approved PFC amount to account for the two AlP grants. In addition, the public agency requested, by letter dated December 19, 2008, that three proposed components be withdrawn from the project. Finally, the public agency did not provide sufficient documentation to justify the level of financing and interest costs requested. Therefore, the FAA reduced the requested financing costs.

Explosive detection system in-line baggage system.

Determination: Offices and training rooms for the Transportation Security Administration are not PFC eligible, in accordance with paragraph 611 of FAA Order 5100/.38C, AlP Handbook (June 28, 2005). In addition, the public agency did not provide sufficient documentation to justify the level of financing and interest costs requested. Therefore, the FAA reduced the requested financing costs.

School soundproofing 2005-2008.

Determination: The public agency provided revised, reduced costs to the FAA on January 8, 2009. Therefore, the approved amount was reduced from that requested in the application. In addition, the public agency did not provide sufficient documentation to justify the level of financing and interest costs requested. Therefore, the FAA reduced the requested financing costs.

Brief Description of Projects Partially Approved for Collection and Use at a $3.00 PFC Level: Vehicle acquisitions 2005-2011.

Determination: The public agency did not provide cost information for the purchase of one runway broom nor was there evidence that the acquisition of this vehicle had been discussed in the airline consultation. Therefore, the acquisition of one runway broom was not approved. In addition, the public agency did not provide sufficient documentation to justify the level of financing and interest costs requested. Therefore, the FAA reduced the requested financing costs.

Land Acquisition, Runway Protection Zone: 6301 South Cicero Avenue; and 4735-39 West 63rd Street.

Determination: The public agency did not provide sufficient documentation to justify the level of financing and interest costs requested. Therefore, the FAA reduced the requested financing costs.

Concourse A infill.

Determination: Several components of the project dealing with airlines operations and concessions spaces are not PFC eligible in accordance with paragraph 611 of FAA Order 5100.38C, AlP Handbook (June 28, 2005). In addition, the public agency did not provide sufficient documentation to justify the level of financing and interest costs requested. Therefore, the FAA reduced the requested financing costs.

Brief Description of Projects Partially Approved for Collection at a $3.00 PFC Level: Land acquisition, runway protection zone: demolition of 6301 South Cicero Avenue and 4735-39 West 63 Street; acquisition and demolition of 5700 West 55th Street, 632353 South Cicero Avenue, 5600 West 631d Street, 5448 West 55th Street, and 5544-42 West 55th Street.

Determination: The public agency did not provide sufficient documentation to justify the level of financing and interest costs requested. Therefore, the FAA reduced the requested financing costs.

Decision Date: January 21, 2009.

FOR FURTHER INFORMATION CONTACT: Amy Hanson, Chicago Airports District Office, (847) 294-7354.

Public Agency: City of Laredo, Texas.

Application Number: 09-03-C-00-Lrd.

Application Type: Impose And Use A Pfc.

PFC Level: $4.50.

Total PFC Revenue Approved in this Decision: $7,852,765.

Earliest Charge Effective Date: January 1, 2013.

Estimated Charge Expiration Date: June 1, 2022.

Class of Air Carriers Not Required to Collect PFC's: None.

Brief Description of Projects Approved for Collection and Use:

Planning studies.

Rehabilitate pavement.

Acquire land.

Aircraft rescue and firefighting improvements.

Construct fuel farm.

Acquire airfield equipment.

Enhance security.

Improve terminal.

PFC audit fees.

Brief Description of Disapproved Project: Lighting fixtures for new employee parking lot.

Determination: This project is not PFC eligible in accordance with § 158.15(b).

Decision Date: January 21, 2009.

FOR FURTHER INFORMATION CONTACT: Guillermo Villalobos, Texas Airport Development Office, (817) 222-5657.

Amendments to PFC Approvals
Amendment No., city, state | Amendment approved date | Original approved net PFC revenue | Amended approved net PFC revenue | Original estimated charge exp. date | Amended estimated charge exp. date
08-05-C-01-UNV, State College, PA | 12/24/08 | $4,139,384 | $4,338,028 | 12/01/13 | 12/01/14
93-01-C-01-IWD, Ironwood, MI | 01/05/09 | 74,690 | 90,531 | 10/01/06 | 10/01/06
07-02-C-01-IWD, Ironwood, MI | 01/05/09 | 133,060 | 128,549 | 02/01/17 | 02/01/26
05-09-C-06-CVG, Covington, KY | 01/08/09 | 41,388,000 | 38,846,000 | 08/01/11 | 06/01/11
01-04-C-02-GJT, Grand Junction, CO | 01/12/09 | 1,730,000 | 1,683,922 | 07/01/07 | 09/01/06
03-10-C-01-MDW, Chicago, IL | 01/13/08 | 1,550,000 | 0 | 02/01/40 | 09/01/38
05-03-C-01-BZN, Belgrade, MT | 01/13/09 | 2,891,180 | 2,115,410 | 02/01/10 | 03/01/09
03-03-C-02-ABY, Albany, GA | 01/14/09 | 512,749 | 457,111 | 02/01/08 | 02/01/08
97-02-C-02-CHA, Chattanooga, TN | 01/14/09 | 150,000 | 103,900 | 02/01/05 | 02/01/05
02-07-C-04-MKE, Milwaukee, WI | 01/14/09 | 38,807,888 | 35,786,991 | 03/01/17 | 02/01/16
03-09-U-03-MKE, Milwaukee, WI | 01/14/09 | NA | NA | 03/01/17 | 02/01/16
06-13-C-02-MKE, Milwaukee, WI | 01/14/09 | 51,947,402 | 51,853,683 | 06/01/24 | 09/01/19
*92-01-1-03-ITH, Ithaca, NY | 01/15/09 | 6,332,880 | 6,332,880 | 01/01/99 | 01/01/15
94-02-C-03-ITH, Ithaca, NY | 01/15/09 | 539,732 | 539,732 | 10/01/13 | 05/01/16
00-04-C-02-TUL, Tulsa, OK | 01/15/09 | 17,900,000 | 17,900,000 | 07/01/04 | 05/01/04
03-05-C-01-ATW, Appleton, WI | 01/23/09 | 318,170 | 318,410 | 10/01/08 | 09/01/08

The amendment denoted by an asterisk (*) includes a change to the PFC level charged from $3.00 per enplaned passenger to $4.50 per enplaned passenger. For Ithaca, NY, this change is effective on March 1, 2009.

Issued in Washington, DC on February 12, 2009.
Joe Hebert,
Manager, Financial Analysis and Passenger Facility Charge Branch.

[FR Doc. E9-3826 Filed 2-25-09; 8:45 am]

BILLING CODE 4910-13-M